ENVIRONMENTAL PROTECTION AGENCY

[FRL-9902-32-OW]

Meeting of the National Drinking Water Advisory Council

AGENCY: Environmental Protection Agency (EPA).

ACTION: Notice of a public meeting.

SUMMARY: The U.S. Environmental Protection Agency (EPA) is announcing a meeting of the National Drinking Water Advisory Council (Council), established under the Safe Drinking Water Act (SDWA). The meeting is scheduled for December 11 and 12, 2013. This meeting of the Council was postponed from October 9 and 10, 2013, due to the government shutdown. The Council typically considers various issues associated with drinking water protection and public water systems. During this meeting, the Council will focus discussions on the proposed regulatory revisions to the Lead and Copper Rule under the SDWA as well as other program issues.

DATES: The meeting on December 11, 2013, will be held from 8:30 a.m. to 5:00 p.m., Eastern Time, and on December 12, 2013, from 8:30 a.m. to 2:30 p.m., Eastern Time.

ADDRESSES: The meeting will be held in Room 1117-A, EPA—East William Jefferson Clinton Building, 1201 Constitution Avenue NW., Washington, DC 20460 and the meeting will be open to the public. All attendees must go through a metal detector, sign in with the security desk, and show government issued photo identification to enter government buildings.

FOR FURTHER INFORMATION CONTACT: Members of the public who would like to register and receive pertinent information, present an oral statement or submit a written statement for the December 11 and 12 meeting should contact Roy Simon, by November 25, 2013, by email at Simon.Roy@epa.gov; by phone at 202-564-3868; or by regular mail at U.S. Environmental Protection Agency, Office of Ground Water and Drinking Water (MC 4601M), 1200 Pennsylvania Avenue NW., Washington, DC 20460. Further details about participating in the meeting can be found in the SUPPLEMENTARY INFORMATION section.

SUPPLEMENTARY INFORMATION: Details About Participating in the Meeting: If you wish to attend the meeting, you should provide your email address when you register. The EPA will provide updated information on the December 11 and 12 meeting to registered individuals and organizations by December 6, 2013. The Council will allocate one hour for the public's input (1:00 p.m.-2:00 p.m., Eastern Time) at the meeting on December 11, 2013. Oral statements will be limited to five minutes at the meeting. It is preferred that only one person present the statement on behalf of a group or organization. To ensure adequate time for public involvement, individuals or organizations interested in presenting an oral statement should notify Roy Simon no later than November 25, 2013. Any person who wishes to file a written statement can do so before or after the Council meeting. Written statements intended for the meeting must be received by December 2, 2013, to be distributed to all members of the Council before any final discussion or vote is completed. Any statements received on or after the date specified will become part of the permanent file for the meeting and will be forwarded to the Council members for their information.

National Drinking Water Advisory Council: The Council was created by Congress on December 16, 1974, as part of the SDWA of 1974, Public Law 93-523, 42 U.S.C. 300j-5, and is operated in accordance with the provisions of the Federal Advisory Committee Act (FACA), 5 U.S.C. App.2. The Council was established under the SDWA to provide practical and independent advice, consultation and recommendations to the EPA Administrator on the activities, functions, policies, and regulations required by the SDWA.

Special Accommodations: For information on access or services for individuals with disabilities, please contact Roy Simon at 202-564-3868 or by email at Simon.Roy@epa.gov. To request accommodation of a disability, please contact Roy Simon at least 10 days prior to the meeting to give EPA as much time as possible to process your request.

Dated: October 24, 2013.
Peter Grevatt,
Director, Office of Ground Water and Drinking Water.

[FR Doc. 2013-26355 Filed 11-1-13; 8:45 am]

BILLING CODE 6560-50-P